DEPARTMENT OF COMMERCE

Bureau of the Census

15 CFR Part 90

[Docket Number: 191211-0109]

RIN 0607-AA57

Temporary Suspension of the Population Estimates Challenge Program

AGENCY: Bureau of the Census, Department of Commerce.

ACTION: Notification of final rulemaking.

SUMMARY: This document provides notice to state and local governments and to Federal agencies that, beginning on January 8, 2020, the Bureau of the Census (Census Bureau) will temporarily suspend the Population Estimates Challenge Program during the decennial census year (2020) and 2021 to accommodate the taking of the 2020 Census. The suspension of this program is a necessary action in order to ensure that sufficient resources are allocated to conduct the decennial census, allowing the Census Bureau's Population Division staff to effectively evaluate the 2020 Census results. The Census Bureau will publish a document in the Federal Register announcing the resumption of the Population Estimates Challenge Program when the stay is lifted.

DATES: Effective January 9, 2020, 15 CFR part 90 is stayed.

FOR FURTHER INFORMATION CONTACT: Amel Toukabri, Population Division, Bureau of the Census, Washington, DC 20233, telephone (301) 763-2461, email at <amel.toukabri@census.gov>.

SUPPLEMENTARY INFORMATION: The Census Bureau hereby notifies the public that it will suspend the Population Estimates Challenge Program after the resolution of all challenges to the 2018 population estimates, which should occur by January 8, 2020. The Census Bureau will release the 2019 population estimates in 2020; however, the Census Bureau will not accept challenges to the 2019 estimates.

Under title 15, part 90 CFR, “Procedure for Challenging Population Estimates,” the Census Bureau provides general-purpose governmental units the opportunity to seek a review and provide additional data to the Census Bureau's annual population estimates and to present evidence relating to the accuracy of the estimates. A general-purpose governmental unit may file a challenge to its population estimate any time up to 90 days after the release of the estimate by the Census Bureau on its website. The Census Bureau, upon receipt of the appropriate documentation to support the challenge, will attempt to resolve the discrepancy with the governmental unit in a timely manner. A general-purpose governmental unit may file a challenge of the revised estimate any time up to 90 days after its release.

Pursuant to the Population Estimates Challenge Program's governing regulations, the Census Bureau annually prepares, between decennial censuses, statistical estimates of the number of people residing in states and their governmental units. 15 CFR 90.1. The Census Bureau will not accept challenges to the 2019 population estimates, to be released in May 2020, because of conflicts with the Census Bureau's Population Division staff's work to support the review and evaluation of the 2020 Decennial Census. Additionally, the 2020 Decennial Census counts will start to be publicly available on a flow basis beginning in December 2020 and continue to be released in 2021, so the timing of these two separate releases might cause confusion for states, counties, and other units of general-purpose governments who regularly use the population and housing data for different purposes such as planning and providing a wide range of services to their communities.

State and local governments also play a critical role to ensure the accuracy of the Census Bureau's address file and resulting counts from the upcoming 2020 Census given the essential role of the population counts in determining congressional representation, redistricting, and the distribution of federal funds. Partnership efforts for the Census Bureau encompass building networks and engaging trusted voices to assist in meeting the overall 2020 Census goal of counting everyone once, only once, and in the right place.

For these reasons the Census Bureau will suspend the Population Estimates Challenge for the decennial year (2020) and 2021. The Population Estimates Challenge program was suspended during 2010 and 2011 to accommodate the taking of the 2010 Census.

During the suspension period, the Census Bureau will not provide the operations necessary to review challenges to the July 1, 2019, population estimates for states, counties, and other general-purpose governments, such as cities, towns, and villages. This is to ensure that sufficient resources are allocated to the conduct of the Decennial Census, allowing the Census Bureau's Population Division staff to effectively evaluate the 2020 Census results and prepare the groundwork for the new decade of estimates. During the period when the program is suspended, the Population Estimates Program will be conducting demographic analysis of the 2020 Census, evaluating the results of the 2020 Census in comparison with the population estimates, conducting research to enhance the estimates, and integrating the updates from the 2020 Census into the estimates program after the 2020 Census is concluded.

The Population Estimates Challenge Program will resume in 2022 after the Census Bureau concludes its responsibilities in the conduct of the decennial census. The Census Bureau will resume accepting challenges to the population estimates by publishing in the Federal Register a document that announces the date when it will begin to accept challenges. At that time, states, counties, and other units of general-purpose government may initiate challenges to population estimates under the procedures set forth in 15 CFR part 90. The Census Bureau would accept challenges beginning with the 2021 population estimates. The 2021 population estimates will be based upon the 2020 Census counts and are scheduled for release in 2022.

Classification

Executive Order 12866: It has been determined that this document is not significant for purposes of E.O. 12866.

Executive Order 13132: It has been determined that this document does not contain policies with Federalism implications as that term is defined in E.O. 13132.

Administrative Procedure Act: The provisions of the Administrative Procedure Act requiring prior notice and opportunity for public comment are inapplicable under 5 U.S.C. 553(b)(B) because such prior notice and opportunity for public comment is unnecessary and impractical. The Population Estimates Challenge program is routinely suspended during decennial census operations in order to ensure that resources within the Population Division are allocated toward evaluating the decennial census results. This rule only suspends the program during the taking, processing and tabulation of the 2020 Census. Thus, this rule does not implement revisions to the program or its requirements. Furthermore, there is good cause to waive the thirty day delay in effective date pursuant to 5 U.S.C. (d)(3), as this rule does not require action nor burden any regulated entity, including state and local governments such as county, city, town, or village. Moreover, allowing an additional thirty days for challenges is not practical since the 2019 Population Estimates Challenge period would begin two months after the scheduled suspension of the Challenge program.

Regulatory Flexibility Act: Because a notice of proposed rulemaking and an opportunity for public comment are not required for this rule by 5 U.S.C. 553, or by any other law, the analytical requirements of the Regulatory Flexibility Act, 5 U.S.C. 601 et seq., are not applicable. Accordingly, no regulatory flexibility analysis is required and none has been prepared.

List of Subjects in 15 CFR Part 90

Administrative practice and procedure, Census data, State and local governments.

PART 90—PROCEDURE FOR CHALLENGING POPULATION ESTIMATES

For the reason stated in the preamble, and under the authority of 13 U.S.C. 4 and 181, 15 CFR part 90 is stayed indefinitely effective January 9, 2020.

Dated: December 20, 2019.
Steven D. Dillingham,
Director, Bureau of the Census.

[FR Doc. 2019-28416 Filed 1-8-20; 8:45 am]

BILLING CODE 3510-07-P